Title 3—

The President

Executive Order 14057 of December 8, 2021

Catalyzing Clean Energy Industries and Jobs Through Federal Sustainability

By the authority vested in me as President by the Constitution and the laws of the United States of America, and in order to reestablish the Federal Government as a leader in sustainability, it is hereby ordered as follows:

Section 101. Policy. The Federal Government faces broad exposure to the mounting risks and costs already posed by the climate crisis. In responding to this crisis, we have a once-in-a-generation economic opportunity to create and sustain jobs, including well-paying union jobs; support a just transition to a more sustainable economy for American workers; strengthen America's communities; protect public health; and advance environmental justice. As the single largest land owner, energy consumer, and employer in the Nation, the Federal Government can catalyze private sector investment and expand the economy and American industry by transforming how we build, buy, and manage electricity, vehicles, buildings, and other operations to be clean and sustainable.

We also must build on past progress and pursue new strategies to improve the Nation's preparedness and resilience to the effects of a changing climate, including advancing the Federal Government's strategic planning, governance, financial management, and procurement to ensure climate resilient operations.

It is therefore the policy of my Administration for the Federal Government to lead by example in order to achieve a carbon pollution-free electricity sector by 2035 and net-zero emissions economy-wide by no later than 2050. Through a whole-of-government approach, we will demonstrate how innovation and environmental stewardship can protect our planet, safeguard Federal investments against the effects of climate change, respond to the needs of all of America's communities, and expand American technologies, industries, and jobs.

Sec. 102. Government-wide Goals. (a) Leading the Nation on a firm path to net-zero emissions by 2050 and achieving the policy set forth in section 101 of this order will require bold action to transform Federal procurement and operations and secure a transition to clean, zero-emission technologies. Through a coordinated whole-of-government approach, the Federal Government shall use its scale and procurement power to achieve:

(i) 100 percent carbon pollution-free electricity on a net annual basis by 2030, including 50 percent 24/7 carbon pollution-free electricity, as defined in section 603(a) of this order;

(ii) 100 percent zero-emission vehicle acquisitions by 2035, including 100 percent zero-emission light-duty vehicle acquisitions by 2027;

(iii) a net-zero emissions building portfolio by 2045, including a 50 percent emissions reduction by 2032;

(iv) a 65 percent reduction in scope 1 and 2 greenhouse gas emissions, as defined by the Federal Greenhouse Gas Accounting and Reporting Guidance, from Federal operations by 2030 from 2008 levels;

(v) net-zero emissions from Federal procurement, including a Buy Clean policy to promote use of construction materials with lower embodied emissions;

(vi) climate resilient infrastructure and operations; and

(vii) a climate- and sustainability-focused Federal workforce.

(b) The actions and investment required to achieve these goals will protect the environment, drive innovation, spur private sector investment, improve public infrastructure, and create new economic opportunity. Pursuant to section 511 of this order, agencies shall implement this order in accordance with my Administration's policies to combat the climate crisis; help American businesses compete in strategic industries; create and sustain well-paying union jobs that allow workers to thrive; maximize the use of American goods, products, materials, and services; and promote a secure, just, and equitable future for all Americans.

Sec. 201. Agency Goals and Targets. (a) In implementing the policy set forth in section 101 of this order and to support the achievement of the government-wide goals of section 102 of this order, the head of each agency shall propose targets, including annual progress targets as applicable, to meet the requirements of sections 202 through 206 of this order.

(b) The Chair of the Council on Environmental Quality (CEQ) and the Director of the Office of Management and Budget (OMB) shall review the targets, and agencies shall incorporate such targets into the performance management systems described under section 503 of this order, as appropriate.

Sec. 202. Reducing Agency Greenhouse Gas Emissions. Each agency shall reduce its scope 1, 2, and 3 greenhouse gas emissions, as defined by the Federal Greenhouse Gas Accounting and Reporting Guidance, by setting and meeting targets for fiscal year 2030 measured from a fiscal year 2008 baseline.

Sec. 203. Transitioning to 100 Percent Carbon Pollution-Free Electricity. Each agency shall increase its percentage use of carbon pollution-free electricity, so that it constitutes 100 percent of facility electrical energy use on an annual basis, and seek to match use on an hourly basis to achieve 50 percent 24/7 carbon pollution-free electricity, by fiscal year 2030. In addition, agencies shall facilitate new carbon pollution-free electricity generation and energy storage capacity by authorizing use of their real property assets, such as rooftops, parking structures, and adjoining land, for the development of new carbon pollution-free electricity generation and energy storage through leases, grants, permits, or other mechanisms, to the extent permitted by law.

Sec. 204. Transitioning to a Zero-Emission Fleet. Each agency's light-duty vehicle acquisitions shall be zero-emission vehicles by the end of fiscal year 2027. Each agency with a fleet comprising at least 20 vehicles shall develop and annually update a zero-emission fleet strategy that shall include optimizing fleet size and composition; deploying zero-emission vehicle re-fueling infrastructure; and maximizing acquisition and deployment of zero-emission light-, medium-, and heavy-duty vehicles where the General Services Administration (GSA) offers one or more zero-emission vehicle options for that vehicle class.

Sec. 205. Achieving Net-Zero Emissions Buildings, Campuses, and Installations. (a) Each agency shall achieve net-zero emissions across its portfolio of buildings, campuses, and installations by 2045 and reduce greenhouse gas emissions by 50 percent from buildings, campuses, and installations by 2032 from 2008 levels, prioritizing improvement of energy efficiency and the elimination of onsite fossil fuel use.

(b) To prioritize reductions in scope 1 greenhouse gas emissions, as defined by the Federal Greenhouse Gas Accounting and Reporting Guidance, agencies should use the Federal building performance standards issued pursuant to section 510 of this order.

(c) To reduce scope 1 and 2 greenhouse gas emissions, as defined by the Federal Greenhouse Gas Accounting and Reporting Guidance, to achieve net-zero emissions buildings, agencies shall:

(i) pursue building electrification strategies in conjunction with carbon pollution-free energy use, deep-energy retrofits, whole-building commissioning, energy and water conservation measures, and space reduction and consolidation;

(ii) design new construction and modernization projects greater than 25,000 gross square feet to be net-zero emissions by 2030;

(iii) implement CEQ's Guiding Principles for Sustainable Federal Buildings in building design, construction, and operation of all new Federal buildings and renovated existing buildings; and

(iv) use performance contracting, in accordance with the provisions of section 1002 of the Energy Act of 2020 (Public Law 116-133, division Z), to improve efficiency and resilience of Federal facilities, deploy clean and innovative technologies, and reduce greenhouse gas emissions from building operations.

Sec. 206. Increasing Energy and Water Efficiency. Each agency shall increase facility energy efficiency and water efficiency and shall establish targets for fiscal year 2030 for agency-wide facility energy use intensity and potable water use intensity, with consideration of performance benchmarks for categories of building types (e.g., hospitals, office buildings) and the composition of the agency's building portfolio.

Sec. 207. Reducing Waste and Pollution. Each agency shall minimize waste, including the generation of wastes requiring treatment and disposal; advance pollution prevention; support markets for recycled products; and promote a transition to a circular economy, as defined in section 2 of the Save Our Seas 2.0 Act (Public Law 116-224), by annually diverting from landfills at least 50 percent of non-hazardous solid waste, including food and compostable material, and construction and demolition waste and debris by fiscal year 2025; and 75 percent by fiscal year 2030.

Sec. 208. Sustainable Acquisition and Procurement. (a) Agencies shall reduce emissions, promote environmental stewardship, support resilient supply chains, drive innovation, and incentivize markets for sustainable products and services by prioritizing products that can be reused, refurbished, or recycled; maximizing environmental benefits and cost savings through use of full lifecycle cost methodologies; purchasing products that contain recycled content, are biobased, or are energy and water efficient, in accordance with relevant statutory requirements; and, to the maximum extent practicable, purchasing sustainable products and services identified or recommended by the Environmental Protection Agency (EPA).

(b) The Chair of CEQ shall consider establishing Federal food procurement policies to reduce associated greenhouse gas emissions and drive sustainability in the Federal food supply chain.

Sec. 209. Adapting the Federal Government to the Impacts of Climate Change. Consistent with its mission, each agency shall:

(a) develop or revise polices and processes to promote climate resilient investment that advances adaptation to climate change and protects public health and the environment;

(b) conduct climate adaptation analysis and planning for climate-informed financial and management decisions and program implementation;

(c) reform agency policies and funding programs that are maladaptive to climate change and increase the vulnerability of communities, natural or built systems, economic sectors, and natural resources to climate impacts, or related risks; and

(d) develop and enhance tools that assess climate change impacts and support climate adaptation planning and implementation.

Sec. 301. Federal Supply Chain Sustainability. Federal supply chains should support a Government and economy that serves all Americans by creating and sustaining well-paying union jobs, protecting public health, advancing environmental justice, reducing greenhouse gas emissions, and building resilience to climate change. Consistent with applicable law, agencies shall pursue procurement strategies to reduce contractor emissions and embodied emissions in products acquired or used in Federal projects.

Sec. 302. Supplier Emissions Tracking. The Administrator of GSA shall track disclosure of greenhouse gas emissions, emissions reduction targets, climate risk, and other sustainability-related actions by major Federal suppliers, based on information and data collected through supplier disclosure pursuant to the requirements of section 5(b)(i) of Executive Order 14030 of May 20, 2021 (Climate-Related Financial Risk), and shall assist the Chair of CEQ in assessing the results of efforts to reduce Federal supply chain emissions.

Sec. 303. Buy Clean. The Buy Clean Task Force established pursuant to section 508 of this order shall provide recommendations to the Chair of CEQ and the Director of OMB, through the Administrator of the Office of Federal Procurement Policy, on policies and procedures to expand consideration of embodied emissions and pollutants of construction materials in Federal procurement and federally funded projects, to include:

(a) identifying and prioritizing pollutants and materials, such as concrete and steel, to be covered under a Buy Clean policy, taking into account the availability of relevant data, including from environmental product declarations, and consistency with existing environmental reporting requirements;

(b) providing recommendations to increase transparency of embodied emissions, including supplier reporting; procedures for auditing environmental product declarations and verifying accuracy of reported emissions data; and recommendations for grants, loans, technical assistance, or alternative mechanisms to support domestic manufacturers in enhancing capabilities to report and reduce embodied emissions in priority materials they produce; and

(c) recommending pilot programs that incentivize Federal procurement of construction materials with lower embodied emissions.

Sec. 401. Engaging, Educating, and Training the Federal Workforce. Meeting the challenges of climate change and achieving the goals of this order requires an investment in the Federal Government's employees and a workforce with the knowledge and skills to effectively apply sustainability, climate adaptation, and environmental stewardship across disciplines and functions. Agencies shall foster a culture of sustainability and climate action; build employees' skills and knowledge through engagement, education, and training; and incorporate environmental stewardship values and, where appropriate, sustainability goals and objectives into performance plans of executives, managers, and staff. The Director of the Office of Personnel Management (OPM), within 90 days of the date of this order, shall prepare a report for the Chair of CEQ that outlines opportunities for including or expanding environmental sustainability and climate adaptation training content in existing Federal training programs, including OPM leadership training programs, and strategies for incorporating sustainability into performance plans. In developing this report, the Director of OPM shall coordinate with the Secretary of Energy, the Administrator of the EPA, the Administrator of GSA, and, as appropriate, the heads of other agencies, as well as Federal employee unions.

Sec. 402. Incorporating Environmental Justice. Environmental justice can only be achieved by ensuring that all those affected by agency operations enjoy the same degree of protection from environmental and health hazards. Accordingly, it is critical that the Federal Government incorporate environmental justice considerations into sustainability and climate adaptation planning, programs, and operations. Consistent with applicable law, agencies shall consider incorporating recommendations of the Justice40 Initiative, required by section 223 of Executive Order 14008 of January 27, 2021 (Tackling the Climate Crisis at Home and Abroad), on how Federal investments might be made toward a goal that 40 percent of the overall benefits flow to disadvantaged communities that have been historically marginalized and overburdened by pollution and underinvestment in housing, transportation, energy, water, wastewater infrastructure, and health care, into operational planning and decision-making regarding Federal facilities, fleets, and operations. Agencies shall address actions taken to advance environmental justice as part of sustainable operations within the annual Sustainability Plans and Climate Adaptation and Resilience Plans required under section 503 of this order.

Sec. 403. Accelerating Progress Through Public, Private, and Non-profit Sector Engagement. (a) Through strong partnerships with the public, private, and non-profit sectors and labor unions and worker organizations, we can more effectively catalyze the growth of clean energy industries and jobs. The Federal Chief Sustainability Officer, reestablished in section 501 of this order, and the heads of agencies shall seek to engage with stakeholders and partners in achieving the goals of this order.

(b) In coordination with the Chair of CEQ and the heads of other agencies, as appropriate, the Director of OPM shall facilitate establishment of a Presidential Sustainability Executives Program to place senior leaders from the private and non-profit sectors into term-limited appointments to bring innovative perspectives and expertise to Federal Government and assist agencies in efforts related to climate action and sustainability.

Sec. 501. Establishment of the Office of the Federal Chief Sustainability Officer. The Office of the Federal Chief Sustainability Officer is reestablished within CEQ. The EPA shall provide funding and administrative support for the Office.

(a) The Office shall be headed by a Federal Chief Sustainability Officer, who shall be appointed by the President. The Federal Chief Sustainability Officer shall lead the development of policies, programs, and partnerships to achieve the policies set forth in this order, advance sustainability and climate resilient Federal operations, and ensure the Federal Government leads by example in combating the climate crisis.

(b) The heads of all agencies shall cooperate with the Federal Chief Sustainability Officer and provide such information, support, and assistance as the Federal Chief Sustainability Officer may request, as appropriate and consistent with applicable law.

Sec. 502. Designation and Duties of Agency Chief Sustainability Officers. Within 30 days of the date of this order or 30 days of an Agency Chief Sustainability Officer leaving that position, heads of agencies shall designate an Agency Chief Sustainability Officer, and assign to the designated official the responsibility for leading agency planning, implementation, and related actions, to include establishment of internal metrics and performance management systems, to achieve the policy in section 101 and the goals set forth in and targets established under sections 201-209 of this order. Agency Chief Sustainability Officers shall provide to the Director of OMB, the Chair of CEQ, and the Federal Chief Sustainability Officer any information and assistance necessary to implement this order, consistent with applicable law.

Sec. 503. Agency Planning and Performance Management. (a) The heads of principal agencies shall develop and implement annual Sustainability Plans, based on annual guidance provided by CEQ, describing actions and progress toward the goals and requirements of this order.

(b) The heads of principal agencies shall develop, implement, and update Climate Adaptation and Resilience Plans that build on the agency's plan submitted pursuant to section 211 of Executive Order 14008.

(c) The Chair of CEQ and the Director of OMB shall conduct management reviews with each principal agency, at least annually or more frequently as appropriate, to assess implementation and progress on agency plans developed pursuant to this order, the goals set forth in this order, and targets established under this order.

(d) The heads of agencies other than principal agencies are encouraged to develop, implement, or update plans and participate in management reviews under this section.

Sec. 504. Duties of the Chair of the Council on Environmental Quality. In coordination with the Director of OMB, the Chair of CEQ shall:

(a) issue guidance, including the guidance required by section 510(b) of this order, or revise existing guidance, as necessary, for agency implementation of this order,

(b) establish a Chief Sustainability Officer Council that shall advise the Director of OMB and the Chair of CEQ on the performance of agency responsibilities under this order. The Federal Chief Sustainability Officer shall chair the Council. Members of the Council shall include those Agency Chief Sustainability Officers invited by the Chair of CEQ, as well as representatives designated by the heads of other agencies at the invitation of CEQ, including representatives from OMB, the Federal Energy Management Program within the Department of Energy, the Office of Federal High-Performance Green Buildings within GSA, and a Federal expert on environmental justice.

(c) establish, as appropriate and consistent with applicable law, committees, interagency groups, or task forces to provide information, recommendations, and assistance to CEQ and OMB in implementing this order.

Sec. 505. Duties of the Director of OMB. The Director of OMB shall coordinate with the Chair of CEQ on implementation of the duties contained in section 504 of this order and, after consultation with the Chair of CEQ and the National Climate Advisor, issue instructions to the heads of agencies concerning periodic performance evaluation of agency implementation of this order and prepare scorecards providing periodic evaluation of principal agency performance in implementing this order.

Sec. 506. Duties of the National Climate Advisor. The National Climate Advisor shall monitor and evaluate progress toward the government-wide goals set forth in section 102 of this order in coordination with the National Climate Task Force established pursuant to section 203 of Executive Order 14008.

Sec. 507. Duties of Heads of Agencies. (a) To ensure successful implementation of the policy established in section 101 of this order and the goals set forth in section 102 of this order, the head of each agency shall:

(i) develop an agency-wide strategic process that coordinates appropriate agency functions and programs to ensure that those functions and programs consider and address the goals of this order; and

(ii) issue or revise existing agency policies, directives, and guidance, as appropriate.

(b) To support a whole-of-government approach to achieve the policy in section 101 of this order, independent agencies are encouraged to implement the policy, goals, and provisions of this order, consistent with applicable law.

Sec. 508. Establishment of Federal Leaders Working Groups. The following Federal Leaders working groups are hereby established, to be housed within CEQ: 100 Percent 24/7 Carbon Pollution-Free Electricity; Zero-Emission Vehicle Fleets; Net-Zero Emissions Buildings; Net-Zero Emissions Procurement, including a Buy Clean Task Force; and Climate Adaptation and Resilience. The Chair of CEQ shall designate the chair or co-chairs for each working group and provide guidance on their membership and responsibilities. The working groups shall provide semiannual reports to the National Climate Task Force on actions, findings, and progress toward government-wide goals.

Sec. 509. Government-wide Support and Collaboration. Achieving the government-wide goals of section 102 and the agency goals of sections 201 through 209 of this order requires transforming how we build, buy, and manage across the Federal Government. To support a whole-of-government approach:

(a) Consistent with applicable law, the Secretary of Defense, the Secretary of Energy, and the Administrator of GSA shall use the scale of the Federal Government's electricity use to aggregate and accelerate new carbon pollution-free electricity generation capacity to meet Federal energy needs.

(b) The Secretary of Transportation and the Administrator of GSA shall coordinate with States, Tribes, and local governments to facilitate wider adoption of zero-emission vehicles and, where appropriate, use the Federal Government's acquisition programs for non-Federal Government purchasers.

(c) In coordination with the Chair of CEQ and the Director of OMB, the Secretary of Energy shall provide tools and technical support to agencies to develop targets for greenhouse gas emissions, zero-emission vehicle fleets, energy, and water required under section 201 of this order; and shall collect, analyze, and report agency data for the purposes of monitoring and evaluating performance toward the goals of this order.

Sec. 510. Additional Guidance and Instructions for Agencies. (a) The Director of OMB, in coordination with the Chair of CEQ and the National Climate Advisor, shall issue a memorandum for agencies that provides direction on immediate actions and further requirements to meet the policies and goals of this order.

(b) To assist agencies in complying with this order, the Chair of CEQ, in consultation with the Director of OMB, shall:

(i) within 120 days of the date of this order, issue and, as needed, update implementing guidance for agencies that provide directions, strategies, and recommended actions to meet the policies and goals of this order;

(ii) issue building performance standards to support achievement of net-zero emissions in the Federal building portfolio under section 205 of this order; and

(iii) consider issuing guidance for agencies to promote sustainable locations for Federal facilities and strengthen the vitality and livability of the communities in which Federal facilities are located.

Sec. 511. Coordination of Administration Priorities. The heads of agencies shall implement this order consistent with my Administration's policies to spur growth of domestic industry and well-paying union jobs, address the climate crisis, and deliver equity and environmental justice. These policies include those contained in Executive Order 13990 of January 20, 2021 (Protecting Public Health and the Environment and Restoring Science To Tackle the Climate Crisis), Executive Order 14008, and Executive Order 14030, which have placed our public health, the environment, and the climate crisis at the forefront of national policy and planning, along with environmental justice, expanding the economy, and the creation of the well-paying union jobs critical to delivering on those goals; Executive Order 14005 of January 25, 2021 (Ensuring the Future Is Made in All of America by All of America's Workers), which establishes that Federal agencies shall maximize the use of goods, products, and materials that are made in America; Executive Order 13985 of January 20, 2021 (Advancing Racial Equity and Support for Underserved Communities Through the Federal Government), which directs action with the goal of making Government contracting and procurement opportunities available on an equal basis; and Executive Order 14017 of February 24, 2021 (America's Supply Chains), which establishes the policy to strengthen the resilience of America's supply chains to fight climate change, create well-paying jobs, and secure our economic prosperity and national security.

Sec. 601. Limitations. (a) This order applies to an agency's activities, personnel, resources, and facilities located within the United States. The head of an agency may apply this order, in whole or in part, to the activities, personnel, resources, and facilities of the agency located outside the United States if the head of the agency determines that such application is in the interest of the United States.

(b) To the extent the head of an agency does not apply this order to activities, personnel, resources, and facilities outside of the United States, the head of the agency shall manage, to the extent practicable, such activities, personnel, resources, and facilities in a manner consistent with the policy set forth in section 101 of this order.

Sec. 602. Exemption Authority. (a) The head of an agency may exempt particular agency activities and related personnel, resources, and facilities from the provisions of this order when it is in the interest of national security, to protect intelligence sources and methods from unauthorized disclosure, or where necessary to protect undercover law enforcement operations from unauthorized disclosure. If the head of an agency issues an exemption under this section, the agency shall notify the Chair of CEQ in writing within 30 days of issuance of the exemption under this section. To the maximum extent practicable and without compromising national security, each agency shall strive to comply with the purposes, goals, and implementation steps in this order.

(b) The head of an agency may exempt from the provisions of this order any vehicle, vessel, aircraft, or non-road equipment that is used in combat support, combat service support, military tactical or relief operations, or training for such operations or spaceflight vehicles, including associated ground-support equipment.

(c) The head of an agency may submit to the President, through the Chair of CEQ, a request for an exemption of an agency activity and related personnel, resources, and facilities from this order for any reason not otherwise addressed by subsections (a) and (b) of this section.

Sec. 603. Definitions. As used in this order:

(a) “24/7 carbon pollution-free electricity” means carbon pollution-free electricity procured to match actual electricity consumption on an hourly basis and produced within the same regional grid where the energy is consumed;

(b) “Agency” means an executive agency as defined in section 105 of title 5, United States Code, excluding the Government Accountability Office and independent regulatory agencies, as defined in 44 U.S.C. 3502(5);

(c) “Buy clean” means a policy to promote purchase of construction materials with lower embodied emissions, taking into account the life-cycle emissions associated with the production of those materials;

(d) “Carbon pollution-free electricity” means electrical energy produced from resources that generate no carbon emissions, including marine energy, solar, wind, hydrokinetic (including tidal, wave, current, and thermal), geothermal, hydroelectric, nuclear, renewably sourced hydrogen, and electrical energy generation from fossil resources to the extent there is active capture and storage of carbon dioxide emissions that meets EPA requirements;

(e) “Embodied emissions” means the quantity of emissions, accounting for all stages of production including upstream processing and extraction of fuels and feedstocks, emitted to the atmosphere due to the production of a product per unit of such product;

(f) “Federal Leaders working group” means a working group, composed of Deputy Secretaries or equivalents, that provides recommendations to the Federal Chief Sustainability Officer and National Climate Task Force on implementation and reports on actions and progress toward the goals of this order;

(g) “National Climate Task Force” means the National Climate Task Force established pursuant to section 203 of Executive Order 14008;

(h) “Principal agencies” means the Departments of State, the Treasury, Defense (including the United States Army Corps of Engineers), Justice, the Interior, Agriculture, Commerce, Labor, Health and Human Services, Housing and Urban Development, Transportation, Energy, Education, Veterans Affairs, and Homeland Security; the Environmental Protection Agency; the Small Business Administration; the Social Security Administration; the National Aeronautics and Space Administration; the Office of Personnel Management; the General Services Administration; and the National Archives and Records Administration.

Sec. 604. Revocation. Executive Order 13834 of May 17, 2018 (Efficient Federal Operations), is revoked.

Sec. 605. Determination. Pursuant to section 742(b) of Public Law 111-117, I have determined that this order will achieve equal or better environmental or energy efficiency results than Executive Order 13423 of January 24, 2007 (Strengthening Federal Environmental, Energy, and Transportation Management).

Sec. 606. General Provisions. (a) Nothing in this order shall be construed to impair or otherwise affect:

(i) the authority granted by law to an executive department, agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

December 8, 2021.

[FR Doc. 2021-27114

Filed 12-10-21; 11:15 am]

Billing code 3395-F2-P